COUNCIL ON ENVIRONMENTAL QUALITY

40 CFR Part 1518

RIN 0331-ZA00

Office of Environmental Quality Management Fund

AGENCY: Council on Environmental Quality, Executive Office of the President.

ACTION: Final rule.

SUMMARY: In 1984, the Environmental Quality Improvement Act was amended to establish an Office of Environmental Quality Management Fund (OEQ Management Fund) for the purpose of financing interagency policy development studies and projects. In accordance with that statute, the Director of the Office of Environmental Quality promulgates the following policies and procedures for operation of the OEQ Management Fund.

DATES: Effective September 25, 2002.

FOR FURTHER INFORMATION CONTACT: Dinah Bear, General Counsel, Council on Environmental Quality, 722 Jackson Place, NW., Washington, DC 20503. Telephone: (202) 395-7421.

SUPPLEMENTARY INFORMATION: The Environmental Quality Improvement Act, as amended (Pub. L. 91-224, Title II, April 3, 1970; Pub. L. 97-258, September 13, 1982; and Pub. L. 98-581, October 30, 1984) establishes an Office of Environmental Quality Management Fund (OEQ Management Fund) to receive advance payments from other agencies or accounts that may be used solely to finance (1) study contracts that are jointly sponsored by the Office of Environmental Quality and one or more federal agencies and (2) federal interagency environmental projects (including task forces) in which the Office participates. 42 U.S.C. 4375. The Director of the Office of Environmental Quality (OEQ) is required to promulgate regulations setting forth policies and procedures for operation of the OEQ Management Fund. 42 U.S.C. 4375(c). The OEQ Director adopted policies and procedures for operation of the OEQ Management Fund in January of 1985. These policies and procedures have been revised to provide for the development and implementation of interagency agreements to assist the OEQ's oversight and administration of the Management Fund. In accordance with the Environmental Quality Improvement Act, these policies and procedures are hereby promulgated as regulations. Because these regulations are related solely to agency management, their promulgation is not subject to notice and comment in accordance with 5 U.S.C. 553(a)(2).

The OEQ considers this rule to be a procedural rule which is exempt from notice-and-comment under 5 U.S.C. 533(b)(3)(A).

This rule is not a significant rule and is not subject to review by the Office of Management and Budget under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects or entitlements, grants, user fees, or loan programs or the rights or obligations of their recipients.

(4) This rule does not raise novel legal or policy issues.

List of Subjects in 40 CFR Part 1518

Accounting, Administrative practice and procedure, Environmental impact statements and Environmental Quality Office.

For the reasons stated in the preamble, add part 1518 of title 40 of the Code of Federal Regulations to read as follows:

PART 1518—OFFICE OF ENVIRONMENTAL QUALITY MANAGEMENT FUND

Sec.
1518.1 Purpose.
1518.2 Definitions.
1518.3 Policy.
1518.4 Procedures.

Authority: 42 U.S.C. 4375(c).

§ 1518.1 Purpose.

The purpose of the OEQ Management Fund is to finance:

(a) Study contracts that are jointly sponsored by OEQ and one or more other Federal agency; and

(b) Federal interagency environmental projects (including task forces) in which OEQ participates. See 42 U.S.C. 4375(a).

§ 1518.2 Definitions.

(a) Advance Payment: Amount of money prepaid pursuant to statutory authorization in contemplation of the later receipt of goods, services, or other assets.

(b) Director: The Director of the Office of Environmental Quality. The Environmental Quality Improvement Act specifies that the Chairman of the Council on Environmental quality shall serve as the Director of OEQ. 42 U.S.C. 4372(a).

(c) OEQ Management Fund (“Fund”): The Management Fund for the Office of Environmental Quality.

(d) Interagency Agreement: A document jointly executed by OEQ and another agency or agencies, which sets forth the details of a joint study or project and the funding arrangements for such a study or project.

(e) Project Officer: The Council on Environmental Quality staff member charged with day-to-day supervision of an OEQ Management Fund study or project.

(f) Source: The agency or account from which funds are contributed into the Fund.

§ 1518.3 Policy

(a) All studies and projects financed through the OEQ Management Fund shall be consistent with the purposes and goals of the National Environmental Policy Act and/or the Environmental Quality Improvement Act.

(b) Agency funds accepted by the Director for transfer into the OEQ Management Fund shall specify the purposes permissible under the source appropriation and any restrictions relating thereto.

(c) The Director may authorize expenditures to support OEQ Management Fund studies and projects, including:

(1) Leasing office space and providing utilities;

(2) Leasing or purchasing equipment;

(3) Funding travel;

(4) Contracting for goods and services; and

(5) Funding consultants and personnel costs for task force employees.

(d) In carrying out the purposes of the OEQ Management Fund, the Director is authorized to contract with public or private agencies, institutions, organizations and individuals, by negotiation, without regard to 31 U.S.C. 3324(a) and (b) 41 U.S.C. 5, and 42 U.S.C. 4372(e). All such contracting activities shall be accomplished through the Office of Administration, Executive Office of the President. The Director may, by interagency agreement with another federal agency or agencies and with the concurrence of the Office of Administration's Financial Management Division, obtain specific administrative services (including contracting activities) in support of OEQ Management Fund studies or projects.

(e) Task forces and projects funded by the OEQ Management Fund are permitted to make expenditures for all project and study activities, except for compensation or benefits for full-time OEQ employees or to reimburse OEQ or CEQ for ordinarily appropriated expenses, such as salaries, benefits, rent, telephone and supplies.

§ 1518.4 Procedures.

(a) Charters: (1) A charter must be prepared for each project or study to be financed and supported by the OEQ Management Fund.

(2) The charter must clearly state the relation of the study or project to the goals and purposes of the Office of Environmental Quality and the National Environmental Policy Act; describe the study or project; identify the participating agency or agencies; provide the names, titles and phone numbers of the Project Officer and administrative contact.

(3) Charters may be amended by preparing a formal amendment, which sets forth the new language to be incorporated in the existing charter.

(4) The Director shall approve all Management Fund charters and amendments in writing.

(5) Copies of each charter and charter amendment approved by the Director shall be provided to the Contracts Branch and the Financial Management Division of the Office of Administration, Executive Office of the President.

(b) Finances and accounting: (1) Annual budget estimates shall be prepared for the OEQ Management Fund.

(2) An operating budget for each project or study shall be submitted to the Financial Management Division of the Office of Administration, Executive Office of the President.

(3) All contributions from other agencies to the OEQ Management Fund for a joint study or project shall be accomplished by interagency agreements, which shall provide for full payment of funds on an advance basis. 42 U.S.C. 4375(a).

(4) All contributions by the Office of Environmental Quality or the Council on Environmental Quality to the OEQ Management Fund for a joint study or project shall be accomplished by a letter of transmittal which specifies the particular study or project to be funded. A copy of this transmittal letter shall be provided to the Financial Management Division of the Office of Administration, Executive Office of the President.

(5) The OEQ Management Fund is a no-year appropriations account, which can accept one-year or multiple-year funds, and is available until the objectives for which the authority was made available are attained. Funds transferred into the Management Fund are individually accounted for and expire under the terms of their appropriation.

(6) Any agency, including the Office of Environmental Quality and the Council on Environmental Quality, may provide technical expertise, physical resources, facilities, equipment, or other assets; perform support or administrative services; or assign detailees or agency representatives to an OEQ Management Fund project or study. These contributions may be in addition to funding.

(7) Subaccounts shall be established within OEQ Management Fund for each project or study. All expenditures for a particular project or study must be matched with the source contribution and approved by the Director or the Project Officer.

(8) The Director may transfer Management Fund resources for any study or project to other federal accounts or other OEQ subaccounts provided that the transfer:

(i) Is approved in writing by the source agency that provided the portion of the funds being transferred;

(ii) Promotes the statutory mission of OEQ; and

(iii) Is justified by the Director as being in the best interests of the government.

(9) Financial transactions shall be classified under each Management Funds subaccount in sufficient detail to satisfy management planning, control requirements and financial audit requirements.

(10) All fund expenditures must comport with the purposes of the Management Fund and follow CEQ approval procedures. Any fund expenditures pursuant to interagency agreement for the provision of administrative services shall comport with the CEQ approval procedures specified in the interagency agreement.

Dated: September 30, 2002.
James L. Connaughton,
Director, Office of Environmental Quality, and Chairman, Council on Environmental Quality.

[FR Doc. 02-25161 Filed 10-3-02; 8:45 am]

BILLING CODE 3125-01-M